DEPARTMENT OF COMMERCE

International Trade Administration

[A-570-916]

Laminated Woven Sacks From the People's Republic of China: Final Results of the Administrative Review of the Antidumping Duty Order; 2018-2019

AGENCY: Enforcement and Compliance International Trade Administration, Department of Commerce.

SUMMARY: The Department of Commerce (Commerce) finds that the 20 companies subject to the administrative review of the antidumping duty (AD) order on laminated woven sacks (LWS) from the People's Republic of China (China) are part of the China-wide entity because none of the companies filed a separate rate application (SRA) or separate rate certification (SRC). The period of review (POR) is August 1, 2018 through July 31, 2019.

DATES: Applicable December 7, 2020.

FOR FURTHER INFORMATION CONTACT: Nicolas Mayora, AD/CVD Operations, Office V, Enforcement and Compliance, International Trade Administration, U.S. Department of Commerce, 1401 Constitution Avenue NW, Washington, DC 20230; telephone: (202) 482-3053.

SUPPLEMENTARY INFORMATION:

Background

On April 17, 2020, Commerce published the Preliminary Results of the administrative review of the AD order on LWS from China, wherein we preliminary determined that the 20 companies subject to the review are part of the China-wide entity because none of the companies filed an SRA or SRC.¹ We invited parties to submit comments on the Preliminary Results. No party submitted comments. Accordingly, the final results remain unchanged from the Preliminary Results.

¹ See Laminated Woven Sacks from the People's Republic of China: Preliminary Results of the Antidumping Duty Administrative Review; 2018-2019, 85 FR 21388 (April 17, 2020) (Preliminary Results).

On April 24, 2020, Commerce tolled all deadlines in administrative reviews by 50 days.² On July 21, 2020, Commerce tolled all deadlines in administrative reviews by an additional 60 days.³ The deadline for the final results of this review is now December 3, 2020.

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

Scope of the Order

The merchandise covered by the order is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (BOPP) or to an exterior ply of paper that is suitable for high quality print graphics; ⁴ printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

⁴ “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (HTSUS) subheadings 6305.33.0050 and 6305.33.0080. Laminated woven sacks were previously classifiable under HTSUS subheading 6305.33.0020. Laminated woven sacks are also classifiable under HTSUS 6305.33.0040. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope of the order is dispositive.

Methodology

Commerce is conducting this administrative review in accordance with section 751(a)(1)(B) of the Tariff Act of 1930, as amended (the Act), and 19 CFR 351.213.

Final Results of Review

Commerce preliminary determined that none of the 20 companies subject to this review demonstrated eligibility for separate rate status. Thus, each company was found to be part of the China-wide entity.⁵ A list of these companies is in the attached appendix.

⁵ See Preliminary Results, 85 FR at 21389.

As noted above, no interested party submitted comments on Commerce's preliminary findings. As such, we made no changes from the Preliminary Results. Therefore, as a result of this review, we continue to treat all 20 companies subject to this review as part of the China-wide entity. The weighted average dumping margin for the China-wide entity is 91.73 percent.⁶

⁶ See Laminated Woven Sacks from the People's Republic of China: Notice of Court Decision Not in Harmony with Final Determination Under Section 129 of the Uruguay Round Agreements Act, 81 FR 23457 (April 21, 2016); see also Notice of Antidumping Duty Order: Laminated Woven Sacks from the People's Republic of China, 73 FR 45941 (August 7, 2008); Implementation of Determinations Under Section 129 of the Uruguay Round Agreements Act: Certain New Pneumatic Off-the-Road Tires; Circular Welded Carbon Quality Steel Pipe; Laminated Woven Sacks; and Light-Walled Rectangular Pipe and Tube from the People's Republic of China, 77 FR 52683 (August 30, 2012).

Assessment

Commerce shall determine, and U.S. Customs and Border Protection (CBP) shall assess, antidumping duties on all appropriate entries covered by this review, in accordance with section 751(a)(2)(C) of the Act and 19 CFR 351.212(b). These final results of review remain unchanged from the Preliminary Results. We will instruct CBP to apply the China-wide entity ad valorem assessment rate of 91.73 percent to all entries of subject merchandise during the POR that were exported by the companies identified in the appendix to this notice. Commerce intends to issue assessment instructions 15 days after the publication date of the final results of this review.

Cash Deposit Requirements

The following cash deposit requirements will be effective for all shipments of LWS from China entered, or withdrawn from warehouse, for consumption on or after the publication date of the final results of this administrative review, as provided by section 751(a)(2)(C) of the Act: (1) For previously-investigated or reviewed Chinese and non-Chinese companies not under review in this segment that received a separate rate in prior segment of this proceeding, the cash deposit rate will continue to be the company-specific rate published for the most recently-completed segment of this proceeding in which the company participated; (2) for all Chinese exporters of subject merchandise that have not been found to be entitled to a separate rate, the cash deposit rate will be that established for the China-wide entity, which is 91.73 percent; and (3) for all non-Chinese exporters of subject merchandise which have not received their own rate, the cash deposit rate will be the rate applicable to the Chinese exporter that supplied that non-Chinese exporter with the subject merchandise. These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the term of an APO is a violation subject sanction.

Notification to Interested Parties

We are issuing and publishing these final results in accordance with sections 751(a)(1) and 777(i) of the Act, and 19 CFR 351.213(h).

Dated: November 30, 2020.
Jeffrey I. Kessler,
Assistant Secretary for Enforcement and Compliance.

Appendix

List of Companies Covered by This Review

1. Cangnan Color Make The Bag

2. Changle Baodu Plastic Co., Ltd.

3. First Way (H.K.) Limited

4. Han Shing Chemical Co., Ltd.

5. Jiangsu Hotson Plastics Co., Ltd.

6. Ningbo Yong Feng Packaging Co., Ltd.

7. Polywell Industrial Co.

8. Polywell Plastic Product Factory

9. Shandong Longxing Plastic Products Company Ltd.

10. Shandong Qikai Plastics Product Co., Ltd.

11. Shandong Qilu Plastic Fabric Group, Ltd.

12. Shandong Shouguang Jianyuan Chun Co., Ltd.

13. Shandong Youlian Co., Ltd.

14. Wenzhou Hotson Plastics Co., Ltd.

15. Zibo Aifudi Plastic Packaging Co., Ltd.

16. Zibo Linzi Luitong Plastic Fabric Co., Ltd.

17. Zibo Linzi Qitianli Plastic Fabric Co., Ltd.

18. Zibo Linzi Shuaiqiang Plastics Co., Ltd.

19. Zibo Linzi Worun Packing Product Co., Ltd.

20. Zibo Qigao Plastic Cement Co., Ltd.

[FR Doc. 2020-26831 Filed 12-4-20; 8:45 am]

BILLING CODE 3510-DS-P